FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 09, 2014.

A. Federal Reserve Bank of Atlanta (Chapelle Davis, Assistant Vice President) 1000 Peachtree Street NE., Atlanta, Georgia 30309:

1. Brian D. Lucas, Fort Myers, Florida, individually and as trustee for Charles Vincent Lucas Trust dated 12/26/2007 and Jack Roderick Lucas Trust, both of Annapolis, Maryland, and Trust FBO Grant Joseph Lucas 12/22/04, Fort Myers, Florida; Bay Harbour L.P., and its general partner Peninsula Investments, Inc., Bonita Springs, Florida; David Lucas, Fort Myers, Florida, individually and as trustee for Brian David Lucas Trust u/a/d 12/15/76 and Trust FBO Grady David Lucas 12/26/06, both of Fort Myers, Florida, and Trust FBO Caroline Jenna Lucas 7/10/09, Cape Coral, Florida; Jack Roderick Lucas, Fort Myers, Florida; Michael Ukleja and Louise Ukleja, both of Long Beach, California; Megan Lucas Spears, Tampa, Florida; and Kevin M. Lucas and Karen S. Lucas, both of Annapolis, Maryland; to retain voting shares of Finemark Holdings, Inc., and indirectly retain voting shares of Finemark National Bank & Trust, both of Fort Myers, Florida.

Board of Governors of the Federal Reserve System, November 20, 2014.
Michael J. Lewandowski,
Associate Secretary of the Board.

[FR Doc. 2014-27942 Filed 11-25-14; 8:45 am]

BILLING CODE 6210-01-P